DEPARTMENT OF ENERGY
Federal Energy Regulatory Commission
[Docket No. RP03-489-002]
Vector Pipeline L.P.; Notice of Request to Place Substitute Tariff Sheets Into Effect
January 22, 2004.
Take notice that on January 16, 2004, Vector Pipeline L.P. (Vector) filed pursuant to part 154 of the Commission(s regulations a request to substitute six revised tariff sheets for tariff sheets that were accepted by Commission Order issued January 14, 2004.

Vector states that the revised tariff sheets correct textual errors in the accepted tariff sheets. The proposed revised tariff sheets are:

2nd Sub Seventh Revised Sheet No. 118
2nd Sub Second Revised Sheet No. 132
2nd Sub Third Revised Sheet No. 153
2nd Sub Third Revised Sheet No. 154
2nd Sub Second Revised Sheet No. 204
2nd Substitute Original Sheet No. 274

The tariff sheets are proposed to be effective December 1, 2003.
Vector states that copies of this filing are being served on all jurisdictional customers, applicable state commissions, and participants in Docket No. RP03-489-000.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-152 Filed 1-29-04; 8:45 am]
BILLING CODE 6717-01-P